OFFICE OF THE UNITED STATES TRADE REPRESENTATIVE

Request for Petitions To Modify the Rules of Origin Under the Dominican Republic—Central America—United States Free Trade Agreement

AGENCY: Office of the United States Trade Representative.

ACTION: Notice of opportunity to file petitions requesting changes to the non-textile and non-apparel products rules of origin under the Dominican Republic—Central America—United States Free Trade Agreement (“the Agreement” or “CAFTA-DR”).

SUMMARY: This notice solicits proposals on appropriate changes that USTR should consider for modifying the CAFTA-DR's rules of origin under Article 4.14 of the Agreement.

DATES: Public comments are due at USTR by close of business, April 17, 2012.

ADDRESSES: Submissions via on-line: http://www.regulations.gov. For alternatives to on-line submissions please contact Kent Shigetomi at (202) 395-9459.

FOR FURTHER INFORMATION CONTACT: Kent Shigetomi, Director for Mexico, NAFTA, and the Caribbean, at (202) 395-9459.

SUPPLEMENTARY INFORMATION: On January 23, 2012, the CAFTA-DR Free Trade Commission (“FTC” or “the Commission”), the plurilateral ministerial-level body responsible for supervising the implementation of the CAFTA-DR, agreed to consider modifying the rules of origin established in the Agreement, particularly in light of more recent free trade agreements. The CAFTA-DR requires each government to provide preferential tariff treatment to goods that meet the Agreement's origin rules. In the United States, those rules are implemented through the Dominican Republic—Central America—United States Free Trade Agreement Implementation Act (Public Law 109-53, 119 Stat. 462) (19 U.S.C. 4011(a) (“the Act”)). Under the Act, goods imported into the United States qualify for preferential treatment if they meet the requirements of the general CAFTA-DR rules of origin set out in section 203 of the Act and the CAFTA-DR product-specific rules set out in the Harmonized Tariff System. The Agreement allows the Parties to amend the Agreement's origin rules as they deem appropriate. Section 203(o)(3) of the Act authorizes the President to proclaim modifications to the CAFTA-DR product-specific origin rules set forth in the HTS, subject to the consultation and layover provisions of section 104 of the Act.

Additional Information: The United States and the other CAFTA-DR Parties have not yet decided whether to make changes to the Agreement's rules of origin and, if such changes were made, what the scope or extent of such changes should be. The United States and the other CAFTA-DR Parties expect to take into account several factors in considering whether to make such changes, including: (1) The extent that any such changes may reduce transaction and manufacturing costs or increase trade among the Parties; (2) the feasibility of devising, implementing, and monitoring new rules of origin; and (3) the level and breadth of interest that manufacturers, processors, traders, and consumers in the Parties express for making particular changes. The Parties expect to make only those changes that are broadly supported by stakeholders in all countries.

Requirements for Comments/Proposals: Submitters should indicate whether they have discussed their proposals with representatives of the relevant sector in the other Parties and, if such discussions have taken place, the result of those discussions. Submissions should indicate if representatives of the relevant sector in the other Parties do not support the proposal. USTR encourages interested parties to consider submitting proposals jointly with interested parties in the other Parties.

Scope and Coverage of Proposals: USTR encourages interested parties to review the broadest appropriate range of items and to submit proposals that reflect a consensus reached after such a broad-based review. A single proposal can thus include requests covering multiple tariff headings. Proposals should cover entire 8-digit tariff subheadings, and may also be submitted at the 6, 4, or 2 digit level where the intent is to cover all subsidiary tariff lines.

Requirements for Submissions: Persons submitting written comments must do so in English and must identify (on the first page of the submission) “CAFTA-DR Rules of Origin.” In order to be assured of consideration, comments should be submitted by noon, [60 days after publication].

In order to ensure the timely receipt and consideration of comments, USTR strongly encourages commenters to make on-line submissions, using the http://www.regulations.gov Web site. Comments should be submitted under the following docket: USTR-2012-0002. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the www.regulations.gov Web site, please consult the resources provided on the Web site by clicking on the “Help” tab.)

The http://www.regulations.gov Web site provides the option of making submissions by filling in a comments field, or by attaching a document. USTR prefers submissions to be provided in an attached document. If a document is attached, it is sufficient to type “See attached” in the “Type Comment” and attach a file in the “Upload File(s)” field. USTR also prefers submissions in Microsoft Word (.doc) or Adobe Acrobat (.pdf). If the submission is in an application other than those two, please indicate the name of the application in the “Comments” field.

A person seeking to request that information contained in a submission from that person be treated as business confidential information must certify that such information is business confidential and would not customarily be released to the public by the submitter. For any comments submitted electronically containing business confidential information, the file name of the business confidential version should begin with the characters “BC.” Confidential business information must be clearly designated as such. The submission must be marked “BUSINESS CONFIDENTIAL” at the top and bottom of the cover page and each succeeding page, and the submission should indicate, via brackets, the specific information that is confidential. Additionally, “BUSINESS CONFIDENTIAL” must be included in the “Type Comment” field. Filers of submissions containing business confidential information must also submit a public version of their comments indicating where confidential information has been redacted. The non-confidential summary will be placed in the docket and open to public inspection. The file name of the public version should begin with the character “P.” The “BC” and “P” should be followed by the name of the person or entity submitting the comments or reply comments. Filers submitting comments containing no business confidential information should name their file using the character “P,” followed by the name of the person or entity submitting the comments.

Please do not attach separate cover letters to electronic submissions; rather, include any information that might appear in a cover letter in the comments themselves. Similarly, to the extent possible, please include any exhibits, annexes, or other attachments in the same file as the submission itself, not as separate files.

USTR strongly urges submitters to file comments through www.regulations.gov, if at all possible. Any alternative arrangements must be made with Kent Shigetomi in advance of transmitting a comment. Mr. Shigetomi should be contacted at (202) 395-9459. General information concerning USTR is available at http://www.ustr.gov.

Inspection of Submissions: Submissions in response to this notice, except for information granted “business confidential” status, will be available for public viewing at http://www.regulations.gov. Such submissions may be viewed by entering the docket number USTR-2012-0002 in the search field at: http://www.regulations.gov.

John M. Melle,
Assistant U.S. Trade Representative for the Americas.

[FR Doc. 2012-3717 Filed 2-16-12; 8:45 am]

BILLING CODE 3190-W2-P